DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 24, 2005.

Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW, Washington, DC, or at http://dms.dot.gov.

This notice of receipt of applications for modification of exemption is published in accordance with Part 107 of the Federal hazardous materials transportation law (49 U.S.C. 5117(b); 49 CFR 1.53(b)).

Issued in Washington, DC, on February 14, 2005.
R. Ryan Posten,
Exemptions Program Officer, Office of Hazardous Materials Safety Exemptions & Approvals.

New Exemption
Application No. | Docket No. | Applicant | Regulation(s) affected | Nature of exemption thereof
14137-N |  | Mallinckrodt Baker, Inc., Phillipsburg, NJ | 49 CFR 172.102(c)(4), Special provision IB2 | To authorize the transportation in commerce of Hydrochloric acid up to 38% concentration in intermediate bulk containers. (Mode 1)
14138-N |  | INO Therapeutics, Inc., Port Allen, LA | 49 CFR 172.202, 172.301 | To authorize the transportation of commerce of certain hazardous materials for use in clinical-blinded studies with alternative shipping papers and markings. (Mode 1, 3)
14139-N |  | Commodore Advanced Sciences, Inc., Richland, WA | 49 CFR 173.244 | To authorize the one-time, one-way transportation in commerce of solidified sodium metal in a non-DOT specification bulk packaging. (Mode 1)
14140-N |  | Albemarle Corporation, Baton Rouge, LA | 49 CFR 172.101(j) and Column (9B) of the HMT and 173.27 | To authorize the transportation of a Division 4.3 material in DOT specification 3AA cylinders further packed in a UN fiberboard box by cargo aircraft only. (Mode 4)
14141-N |  | Nalco Company, Naperville, IL | 49 CFR 177.834(i)(3) | To authorize the use of video cameras and monitors to observe the loading operations of certain hazardous materials from a remote control station in place of personnel remaining within 7.62 meters (25 feet) of the cargo tank motor vehicles. (Mode 1)
14142-N |  | Arch Chemicals, Inc., Norwalk, CT | 49 CFR 172, subparts D, E and F | To authorize the transportation in commerce of a hazardous substance without marking, labeling or placarding when further packaged in a freight container. (Mode 1, 2, 3)
14143-N |  | Federal Industries Corporation, Plymouth, MN | 49 CFR 173.12(b) | To authorize the manufacture, marking and sale of a corrugated fiberboard box for use as the outer packaging for lab pack applications in accordance with § 173.12(b). (Mode 1, 2, 3)
14144-N |  | Lawrence Livermore National Laboratory, Livermore, CA | 49 CFR 173.212 | To authorize the one-time transportation in commerce of lithium hydride, fused solid in specially designed non-bulk containers. (Mode 1)
14146-N |  | Brunswick Corporation, Lake Forest, IL | 49 CFR 173.220(e) | To authorize the transportation in commerce of certain engines, machinery and apparatus with up to 120 ml (4 ounces) of flammable liquid fuel by vessel. (Mode 3)

[FR Doc. 05-3371 Filed 2-18-05; 8:45 am]

BILLING CODE 4909-60-M